DEPARTMENT OF TRANSPORTATION

Federal Aviation Administration

14 CFR Part 39

[Docket No. FAA-2005-20848; Directorate Identifier 2005-NE-02-AD]

RIN 2120-AA64

Airworthiness Directives; Aviointeriors S.p.A. (formerly ALVEN), Series 312 Box Mounted Seats

AGENCY: Federal Aviation Administration (FAA), DOT.

ACTION: Notice of proposed rulemaking (NPRM).

SUMMARY: The FAA proposes to adopt a new airworthiness directive (AD) for Aviointeriors S.p.A. (formerly ALVEN), series 312 box mounted seats. This proposed AD would require initial and repetitive inspections of the seat attachments for cracks, and if necessary, replacing the attachments. This proposed AD results from 10 reports of cracked attachments of series 312 box mounted seats. We are proposing this AD to prevent series 312 box mounted seats from detaching from the passenger compartment floor, which could result in injury to the occupant of the seat, and prevent evacuation of passengers in the event of an emergency.

DATES: We must receive any comments on this proposed AD by June 10, 2005.

ADDRESSES: Use one of the following addresses to comment on this proposed AD.

• DOT Docket Web site: Go to http://dms.dot.gov and follow the instructions for sending your comments electronically.

• Government-wide Rulemaking Web site: Go to http://www.regulations.gov and follow the instructions for sending your comments electronically.

• Mail: Docket Management Facility; U.S. Department of Transportation, 400 Seventh Street, SW., Nassif Building, Room PL-401, Washington, DC 20590-001.

• Fax: (202) 493-2251.

• Hand Delivery: Room PL-401 on the plaza level of the Nassif Building, 400 Seventh Street, SW., Washington, DC, between 9 a.m. and 5 p.m., Monday through Friday, except Federal holidays.

Contact Aviointeriors S.p.A., Via Appia Km. 66.4—04013 Latina, Italy; telephone: 39-0773-6891; fax: 39-0773-631546 for the service information identified in this proposed AD.

FOR FURTHER INFORMATION CONTACT: Jeffrey Lee, Aerospace Engineer, Boston Aircraft Certification Office, FAA, Engine and Propeller Directorate, 12 New England Executive Park, Burlington, MA 01803-5299; telephone: 781-238-7161; fax: 781-238-7170.

SUPPLEMENTARY INFORMATION:

Comments Invited

We invite you to send us any written relevant data, views, or arguments regarding this proposal. Send your comments to an address listed under ADDRESSES. Include “Docket No. FAA-2005-20848; Directorate Identifier 2005-NE-02-AD” in the subject line of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the proposal, any comments received, and any final disposition in person at the DMS Docket Offices between 9 a.m. and 5 p.m., Monday through Friday, except Federal holidays. The Docket Office (telephone (800) 647-5227) is on the plaza level of the Department of Transportation Nassif Building at the street address stated in ADDRESSES. Comments will be available in the AD docket shortly after the DMS receives them.

Discussion

The Ente Nazionale per 'Aviazione Civile (ENAC), which is the airworthiness authority for Italy, notified the FAA that an unsafe condition may exist on Aviointeriors S.p.A. (formerly ALVEN) series 312 box mounted seats, part number (P/N) 312( )( )27-( )( )( )( )( ) and P/N 312( )( )36-( )( )( )( )( ). The ENAC advises that 10 reports have been received of cracked seat attachments found during routine maintenance. The parentheses appearing in the seat P/N indicate the presence or absence of an additional letter(s), or numbers(s), that varies the basic seat configuration. This proposed AD still applies regardless of whether these letters, or numbers, are present or absent in the seat P/N designation.

Relevant Service Information

We have reviewed and approved the technical contents of Aviointeriors Service Bulletin (SB) No 312/912-05, Revision 1, dated August 24, 2001. This SB describes the procedures for inspecting series 312 box mounted seat outboard and seat inboard attachments for cracks, replacing cracked attachments, and replacing attachments when they have accumulated 8,000 hours time-in-service (TIS). The ENAC classified this service bulletin as mandatory and issued AD 2001-479, dated November 12, 2001, in order to ensure the airworthiness of these seats in Italy.

FAA's Determination and Requirements of the Proposed AD

These Aviointeriors S.p.A. series 312 box mounted seats, manufactured in Italy, are approved for use on airplanes that are type certificated for operation in the United States under the provisions of § 21.617 of the Federal Aviation Regulations (14 CFR 21.617) and the applicable bilateral airworthiness agreement. In keeping with this bilateral airworthiness agreement, the ENAC kept us informed of the situation described above. We have examined the findings of ENAC, reviewed all available information, and determined that AD action is necessary for products of this type design that are certificated for operation in the United States. For this reason, we are proposing this AD, which would require:

• Initial and repetitive inspections of the seat outboard and inboard attachments for cracks.

• Replacing cracked attachments.

• Within 90 days after the effective date of the proposed AD, replacing attachments if they have accumulated 8,000 hours or more TIS on the effective date of the proposed AD.

• Replacing attachments when they have accumulated 8,000 hours TIS.

The proposed AD would require you to use the service information described previously to perform these actions.

Costs of Compliance

There are about 68 Aviointeriors S.p.A. series 312 box mounted seats installed on airplanes of U.S. registry that would be affected by this proposed AD. We estimate that it would take about 0.5 work hour per seat to perform the proposed inspections, and about 0.5 work hour per seat to perform the proposed replacement of an attachment. The average labor rate is $65 per work hour. Required parts would cost about $297.50 per seat. Based on these figures, we estimate the total cost of one inspection and total parts replacement to U.S. operators to be $24,650.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary at the address listed under ADDRESSES.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Aviointeriors S.p.A. (formerly ALVEN): Docket No. FAA-2005-20848; Directorate Identifier 2005-NE-02-AD.

Comments Due Date

(a) The Federal Aviation Administration (FAA) must receive comments on this airworthiness directive (AD) action by June 10, 2005.

Affected ADs

(b) None.

Applicability

(c) This AD applies to Aviointeriors S.p.A. (formerly ALVEN), series 312 box mounted seats, part number (P/N) 312( )( )27-( )( )( )( )( ) and P/N 312( )( )36-( )( )( )( )( ). These seats are installed in, but not limited to, Fokker Model F27 Mark 050, Mark 500, and Mark 600 airplanes.

(d) The parentheses appearing in the seat P/N indicate the presence or absence of an additional letter(s), or number(s), that varies the basic seat configuration. This AD still applies regardless of whether these letters, or numbers, are present or absent in the seat P/N designation.

Unsafe Condition

(e) This AD results from 10 reports of cracked attachments of series 312 box mounted seats. We are issuing this AD to prevent series 312 box mounted seats from detaching from the passenger compartment floor, which could result in injury to the occupant of the seat, and prevent evacuation of passengers in the event of an emergency.

Compliance

(f) You are responsible for having the actions required by this AD performed within the compliance times specified unless the actions have already been done.

Attachments That Have Already Accumulated 8,000 Hours Time-In-Service (TIS) or More

(g) For attachments that have already accumulated 8,000 hours TIS or more on the effective date of this AD, do the following:

(1) Within 90 days after the effective date of this AD, replace attachments with new attachments of the same P/N, using Section 2., Replacement Procedure, Steps 2.4 though 2.6 of Aviointeriors Service Bulletin No. 312/912-05, Revision 1, dated August 24, 2001.

(2) Perform repetitive visual inspections as specified in paragraph (i) of this AD.

Initial Visual Inspection

(h) Perform an initial visual inspection of the seat outboard and inboard attachments for cracks, within 90 days after the effective date of this AD, as follows:

(1) Inspect seat outboard attachment, part number (P/N) DM03313-1, and seat inboard attachment, P/N DM03314-1, using Section 2., Inspection Procedure, Steps 2.1 through 2.5 of Aviointeriors Service Bulletin (SB) No. 312/912-05, Revision 1, dated August 24, 2001.

(2) Replace any cracked attachment with a new attachment of the same P/N, using Section 2., Replacement Procedure, Steps 2.4 though 2.6 of Aviointeriors SB No. 312/912-05, Revision 1, dated August 24, 2001.

(3) Replace attachments when they have accumulated 8,000 hours time-in-service (TIS), with new attachments of the same P/N, using Section 2., Replacement Procedure, Steps 2.4 though 2.6 of Aviointeriors SB No. 312/912-05, Revision 1, dated August 24, 2001.

Repetitive Visual Inspections

(i) Within 650 hours TIS after the last inspection, or within 650 hours TIS after attachment was replaced, and whenever the seat is being installed or removed, perform repetitive visual inspections for cracks, and replace cracked seat outboard and inboard attachments. Use paragraphs (h)(1) through (h)(3) of this AD to inspect and disposition the attachments.

Alternative Methods of Compliance

(j) The Manager, Boston Aircraft Certification Office, has the authority to approve alternative methods of compliance for this AD if requested using the procedures found in 14 CFR 39.19.

Related Information

(k) Ente Nazionale per l'Aviazione Civile airworthiness directive AD 2001-479, dated November 12, 2001, also addresses the subject of this AD.

Issued in Burlington, Massachusetts, on April 4, 2005.
Francis A. Favara,
Acting Manager, Engine and Propeller Directorate, Aircraft Certification Service.

[FR Doc. 05-7152 Filed 4-8-05; 8:45 am]

BILLING CODE 4910-13-P